DEPARTMENT OF COMMERCE

International Trade Administration

[A-201-844]

Steel Concrete Reinforcing Bar From Mexico: Final Results of Antidumping Duty Administrative Review; 2020-2021

AGENCY: Enforcement and Compliance, International Trade Administration, Department of Commerce.

SUMMARY: The U.S. Department of Commerce (Commerce) determines that steel concrete reinforcing bar from Mexico was sold in the United States at less than normal value during the period of review (POR), November 1, 2020, through October 31, 2021.

DATES: Applicable June 9, 2023.

FOR FURTHER INFORMATION CONTACT: David Lindgren or Kyle Clahane, AD/CVD Operations, Office III, Enforcement and Compliance, International Trade Administration, U.S. Department of Commerce, 1401 Constitution Avenue NW, Washington, DC 20230; telephone: (202) 482-1671 or (202) 482-5449, respectively.

SUPPLEMENTARY INFORMATION:

Background

On December 7, 2022, Commerce published the Preliminary Results for this review in the Federal Register and invited interested parties to comment on those results.¹ For a summary of the events that occurred since the Preliminary Results, see the Issues and Decision Memorandum.²

¹ See Steel Concrete Reinforcing Bar from Mexico: Preliminary Results of Antidumping Duty Administrative Review; 2020-2021, 87 FR 75032 (December 7, 2022) (Preliminary Results) and accompanying Preliminary Decision Memorandum.

² See Memorandum, “Decision Memorandum for the Final Results of Antidumping Duty Administrative Review: Steel Concrete Reinforcing Bar from Mexico; 2020-2021,” dated concurrently with, and hereby adopted by, this notice (Issues and Decision Memorandum).

Commerce conducted this administrative review in accordance with section 751(a)(1)(B) of the Tariff Act of 1930, as amended (the Act).

Scope of the Order ³

³ See Steel Concrete Reinforcing Bar from Mexico: Antidumping Duty Order, 79 FR 65925 (November 6, 2014) (Order).

The product covered by the Order is steel concrete reinforcing bar from Mexico. For a complete description of the scope, see the Issues and Decision Memorandum.

Analysis of Comments Received

All issues raised in the case and rebuttal briefs are addressed in the Issues and Decision Memorandum. A list of the issues that parties raised and to which we responded in the Issues and Decision Memorandum is attached as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our review of the record and comments received from interested parties regarding the Preliminary Results, we made certain changes to the margin calculation for Deacero Group, which has also resulted in changes to the rate assigned to the non-selected companies. For a discussion of these changes, see the Issues and Decision Memorandum.

Rates for Companies Not Selected for Individual Examination

For the rate for non-selected respondents in an administrative review, generally, Commerce looks to section 735(c)(5) of the Act, which provides instructions for calculating the all-others rate in a market economy investigation. Under section 735(c)(5)(A) of the Act, the all-others rate is normally “an amount equal to the weighted-average of the estimated weighted-average dumping margins established for exporters and producers individually investigated, excluding any zero or de minimis margins, and any margins determined entirely {on the basis of facts available}.” In this segment of the proceeding, we calculated weighted-average dumping margins for both mandatory respondents, Deacero S.A.P.I. de C.V. (Deacero) and Ingeteknos Estructurales, S.A. de C.V. (Ingetek) (collectively, Deacero Group) and Grupo Acerero S.A. de C.V. (Acerero), that are not zero, de minimis, or determined entirely on the basis of facts available. Accordingly, Commerce is assigning the weighted average of the dumping margins calculated for the two respondents as the rate for those companies not selected for individual examination, which are listed below.

Final Results of Review

Commerce determines that the following weighted-average dumping margins exist for the period November 1, 2020, through October 31, 2021:

Producer or exporter | Weighted-average dumping margin (percent)
Deacero S.A.P.I. de C.V./Ingeteknos Estructurales, S.A. de C.V | 2.30
Grupo Acerero S.A. de C.V | 16.28
ArcelorMittal Mexico SA de CV | 5.78
Grupo Simec/Aceros Especiales Simec Tlaxcala, S.A. de C.V./Compania Siderurgica del Pacifico S.A. de C.V./Fundiciones de Acero Estructurales, S.A. de C.V./Grupo Chant S.A.P.I. de C.V./Operadora de Perfiles Sigosa, S.A. de C.V./Orge S.A. de C.V./Perfiles Comerciales Sigosa, S.A. de C.V./RRLC S.A.P.I. de C.V./Siderúrgicos Noroeste, S.A. de C.V./Siderurgica del Occidente y Pacifico S.A. de C.V./Simec International, S.A. de C.V./Simec International 6 S.A. de C.V./Simec International 7 S.A. de C.V./Simec International 9 S.A. de C.V | 5.78%
Sidertul S.A. de C.V | 5.78

Disclosure

Commerce intends to disclose the calculations performed for these final results to interested parties in this review under administrative protective order within five days of the date of publication of this notice in the Federal Register, in accordance with 19 CFR 351.224(b).

Assessment Rate

Pursuant to section 751(a)(2)(A) of the Act, and 19 CFR 351.212(b)(1), Commerce shall determine, and U.S. Customs and Border Protection (CBP) shall assess, antidumping duties on all appropriate entries covered by this review. Pursuant to 19 CFR 351.212(b)(1), for Deacero Group and Acerero, we calculated importer-specific antidumping duty assessment rates by aggregating the total amount of dumping calculated for the examined sales of each importer and dividing each of these amounts by the total entered value associated with those sales. Where either the respondent's weighted-average dumping margin is zero or de minimis within the meaning of 19 CFR 351.106(c)(1), or an importer-specific assessment rate is zero or de minimis, we will instruct CBP to liquidate the appropriate entries without regard to antidumping duties.

Commerce's “automatic assessment” will apply to entries of subject merchandise during the POR for which the examined companies did not know that the merchandise they sold to an intermediary (e.g., a reseller, trading company, or exporter) was destined for the United States. In such instances, we will instruct CBP to liquidate unreviewed entries at the all-others rate if there is no rate for the intermediate company(ies) involved in the transaction.

For the companies which were not selected for individual examination, we will instruct CBP to assess antidumping duties at an ad valorem assessment rate equal to the company-specific weighted- average dumping margin determined in these final results.

Commerce intends to issue assessment instructions to CBP no earlier than 41 days after the date of publication of the final results of this review in the Federal Register in accordance with 19 CFR 356.8(a).

Cash Deposit Requirements

The following cash deposit requirements will be effective for all shipments of the subject merchandise entered, or withdrawn from warehouse, for consumption on or after the publication date of the final results of this administrative review, as provided by section 751(a)(2)(C) of the Act: (1) the cash deposit rates for the companies identified above in the “Final Results of Review” section will be equal to the company-specific weighted-average dumping margin established in the final results of this administrative review; (2) for merchandise exported by a company not covered in this administrative review but covered in a completed prior segment of the proceeding, the cash deposit rate will continue to be the company-specific rate published for the most recently completed segment of this proceeding; (3) if the exporter is not a firm covered in this review or completed prior segment of this proceeding but the producer is, the cash deposit rate will be the company-specific rate established for the most recently-completed segment of this proceeding for the producer of the subject merchandise; and (4) the cash deposit rate for all other producers or exporters will continue to be 20.58 percent, the rate established in the investigation of this proceeding.⁴ These cash deposit requirements, when imposed, shall remain in effect until further notice.

⁴ See Order, 79 FR at 65926.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties has occurred and the subsequent assessment of double antidumping duties.

Administrative Protective Order

This notice also serves as a final reminder to parties subject to an administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification to Interested Parties

We are issuing and publishing this notice in accordance with sections 751(a)(1) and 777(i)(1) of the Act, and 19 CFR 351.221(b)(5) and 19 CFR 351.213(h)(1).

Dated: June 2, 2023.
Lisa W. Wang,
Assistant Secretary for Enforcement and Compliance.

Appendix

List of Topics Discussed in the Issues and Decision Memorandum

I. Summary

II. Background

III. Scope of the Order

IV. Changes Since the Preliminary Results

V. Discussion of the Issues

Comment 1: Whether to Apply Adverse Facts Available to Deacero Group

Comment 2: Whether the Names of Certain Entities Should Be Treated as Proprietary Information

Comment 3: Whether to Continue Collapsing Deacero and Ingetek

Comment 4: Whether Certain Companies Should be Collapsed with Deacero

Comment 5: Whether to Correct the Treatment of Certain Selling Expenses

Comment 6: Whether to Revise the Treatment of Certain Unreconciled Costs

Comment 7: Whether to Revise the Financial Expense Ratio

Comment 8: Whether to Include Window Period Sales in the Analysis

Comment 9: Whether to Revise the Treatment of Certain Missing Costs

Comment 10: Whether Commerce Should Rely on Acerero's Post-Preliminary Home Market Sales Database

Comment 11: Whether Commerce Should Rely on a Combined General and Administrative Expense Ratio for Acerero

Comment 12: Whether to Modify the Preliminary Treatment of Affiliated Scrap Purchases

VI. Recommendation

[FR Doc. 2023-12332 Filed 6-8-23; 8:45 am]

BILLING CODE 3510-DS-P